ENVIRONMENTAL PROTECTION AGENCY

[EPA-R07-SFUND-0037; FRL-9960-34-Region7]

Proposed Administrative Cost Recovery Settlement Under the Comprehensive Environmental Response Compensation and Liability Act; Beatrice Former Manufactured Gas Plant Superfund Site, Beatrice, Nebraska

AGENCY: Environmental Protection Agency (EPA).

ACTION: Notice; request for public comment.

SUMMARY: The Environmental Protection Agency is announcing a cost recovery settlement with the City of Beatrice, Nebraska and Centel Corporation, for the compromise of past response costs concerning the Beatrice Former Manufactured Gas Plant Superfund Site in Beatrice, Nebraska.

DATES: Comments must be submitted on or before July 21, 2017

ADDRESSES: The proposed settlement is available for public inspection at the EPA Region 7 office, 11201 Renner Boulevard, Lenexa, Kansas, Monday through Friday, between the hours of 8:00 a.m. through 4:00 p.m. A copy of the proposed settlement may be obtained from the Regional Hearing Clerk, 11201 Renner Boulevard, Lenexa, Kansas 66219, (913) 551-7567 or email address robinson.kathy@epa.gov. Requests should reference the Beatrice Former Manufactured Gas Plant Site, EPA Docket No. CERCLA-. Comments should be addressed to: Barbara L. Peterson, Senior Assistant Regional Counsel, 11201 Renner Boulevard, Lenexa, Kansas 66219. The proposed settlement is also available at the following Web site: http://www2.epa.gov/aboutepa/epa-region-7-midwest.

FOR FURTHER INFORMATION CONTACT: Barbara L. Peterson, at telephone: (913) 551-7277; fax number: (913) 551-7925/Attn: Barbara Peterson; email address: peterson.barbara@epa.gov.

SUPPLEMENTARY INFORMATION: In accordance with Section 122(i) of the Comprehensive Environmental Response Compensation and Liability Act, as amended (CERCLA), 42 U.S.C. 9622(i), notice is hereby given of a proposed administrative settlement with the City of Beatrice, Nebraska and Centel Corporation, for the compromise of past response costs concerning the Beatrice Former Manufactured Gas Plant Superfund Site in Beatrice, Nebraska. The settlement includes a covenant not to sue with the settling parties pursuant to Section 107(a) of CERCLA, 42 U.S.C. 9607(a). For notice, EPA will receive written comments relating to the compromise of costs component of the settlement. EPA will consider all comments and may modify or withdraw its consent to the settlement if comments received disclose facts or considerations which indicate that the compromise of costs is inappropriate, improper, or inadequate. EPA's response to any comments received will be available for public inspection at the EPA Region 7 office located at 11201 Renner Boulevard, Lenexa, Kansas 66219.

Dated: January 11, 2017.
Mary P. Peterson,
Division Director, Superfund Division, EPA Region 7.

[FR Doc. 2017-12844 Filed 6-20-17; 8:45 am]

BILLING CODE 6560-50-P